DEPARTMENT OF HOMELAND SECURITY

Coast Guard

[Docket No. USCG-2021-0041]

Recertification of Prince William Sound Regional Citizens' Advisory Council

AGENCY: Coast Guard, DHS.

ACTION: Notice of recertification.

SUMMARY: The Coast Guard announces the recertification of the Prince William Sound Regional Citizens' Advisory Council (PWSRCAC) as an alternative voluntary advisory group for Prince William Sound, Alaska. This certification allows the PWSRCAC to monitor the activities of terminal facilities and crude oil tankers under an alternative composition, other than prescribed, the Prince William Sound Program established by the Oil Terminal and Oil Tanker Environmental Oversight and Monitoring Act of 1990.

DATES: This recertification is effective for the period from March 1, 2021 through February 28, 2022.

FOR FURTHER INFORMATION CONTACT: For information about this document, call or email LT Ian McPhillips, Seventeenth Coast Guard District (dpi), by phone at (907) 463-2809 or email at Ian.P.McPhillips@uscg.mil.

SUPPLEMENTARY INFORMATION:

Background and Purpose

The Coast Guard published guidelines on December 31, 1992 (57 FR 62600), to assist groups seeking recertification under the Oil Terminal and Oil Tanker Environmental Oversight and Monitoring Act of 1990 (33 U.S.C. 2732) (the Act). The Coast Guard issued a policy statement on July 7, 1993 (58 FR 36504), to clarify the factors that the Coast Guard would be considering in making its determination as to whether advisory groups should be certified in accordance with the Act, and the procedures which the Coast Guard would follow in meeting its certification responsibilities under the Act. Most recently, on September 16, 2002 (67 FR 58440), the Coast Guard changed its policy on recertification procedures for regional citizen's advisory council by requiring applicants to provide comprehensive information every three years. For each of the two years between the triennial application procedures, applicants submit a letter requesting recertification that includes a description of any substantive changes to the information provided at the previous triennial recertification. Further, public comment is only solicited during the triennial comprehensive review.

The Alyeska Pipeline Service Company pays the PWSRCAC $3.7 million annually in the form of a long-term contract. In return for this funding, the PWSRCAC must annually show that it “fosters the goals and purposes” of OPA 90 and is “broadly representative of the communities and interests in the vicinity of the terminal facilities and Prince William Sound.” The PWSRCAC is an independent, nonprofit organization founded in 1989. Though it receives federal oversight like many independent, nonprofit organizations, it is not a federal agency. The PWSRCAC is a local organization that predates the passage of OPA 90. The existence of the PWSRCAC was specifically recognized in OPA 90 where it is defined as an “alternative voluntary advisory group.” Alyeska Pipeline Service Company funds the PWSRCAC, and the Coast Guard ensures the PWSRCAC operates in a fashion that is broadly consistent with OPA 90.

Recertification

By letter dated February 16, 2021, the Commander, Seventeenth Coast Guard District, certified that the PWSRCAC qualifies as an alternative voluntary advisory group under 33 U.S.C. 2732(o). This recertification terminates on February 28, 2022.

Dated: February 17, 2021.
Matthew T. Bell, Jr.,
Rear Admiral, U.S. Coast Guard, Commander, Seventeenth Coast Guard District.

[FR Doc. 2021-05283 Filed 3-12-21; 8:45 am]

BILLING CODE 9110-04-P